DEPARTMENT OF HEALTH AND HUMAN SERVICES

Administration for Children and Families

Statement of Organization, Functions, and Delegations of Authority

AGENCY: Office of Legislative Affairs and Budget, Administration for Children and Families, HHS.

ACTION: Notice.

SUMMARY: Statement of Organizations, Functions, and Delegations of Authority. The Administration for Children and Families (ACF) has realigned the Office of Legislative Affairs and Budget (OLAB). This realignment will permit the office to serve as the ACF liaison to the Government Accountability Office (GAO) and to the Office of Inspector General (OIG) for OIG engagements relating to the management of ACF programs.

FOR FURTHER INFORMATION CONTACT: Matthew McKearn, Office of Legislative Affairs and Budget, 901 D Street SW., Washington, DC 20447, 202-401-9222.

This notice amends Part K of the Statement of Organization, Functions, and Delegations of Authority of the Department of Health and Human Services, Administration for Children and Families (ACF), as follows: Chapter KT, as last amended, 65 FR 30413-14, May 11, 2000.

I. Under Chapter KT, Office of Legislative Affairs and Budget, delete KT.00 Mission in its entirety and replace with the following:

KT.00 MISSION. The Office of Legislative Affairs and Budget (OLAB) provides leadership in the development of legislation, budget, and policy, ensuring consistency in these areas among ACF program and staff offices, and with ACF and the Department's vision and goals. It advises the Assistant Secretary for Children and Families on all policy and programmatic matters that substantially impact the agency's legislative program, budget development, budget execution, and regulatory agenda. The Office serves as the primary contact for the Department, the Executive Branch, and the Congress on all legislative, budget development and execution, and regulatory activities. The Office serves as the ACF liaison to the Government Accountability Office and to the Office of Inspector General (OIG) for OIG engagements relating to the management of ACF programs.

II. Under Chapter KT, Office of Legislative Affairs and Budget, delete KT.20, Functions, Paragraph B, in its entirety and replace with the following:

B. The Division of Legislative and Regulatory Affairs serves as the focal point for congressional liaison in ACF; provides guidance to the Assistant Secretary for Children and Families and senior ACF staff on congressional activities and relations; manages the preparation of testimony and briefings for programmatic and budget-related hearings; negotiates clearance of testimony; monitors hearings and other congressional activities that affect ACF programs; and responds to congressional inquiries.

The Division manages the ACF legislative planning cycle and the development of Reports to Congress; reviews and analyzes a wide range of congressional policy documents including: legislative proposals, pending legislation, and bill reports; solicits and synthesizes internal ACF comments on such documents; negotiates legislative policy positions with the Department and the Executive Branch; and reviews other policy significant documents to ensure consistency with statutory and congressional intent and the agency legislative agenda.

The Division manages the ACF regulatory development process; negotiates regulatory policy positions with the Department and the Executive Branch; and provides guidance to ACF program and staff components on policy and programmatic matters related to the regulatory development process.

The Division manages all Government Accountability Office (GAO) engagements with ACF; coordinates entrance and exit conferences within ACF; ensures GAO requests for information are fulfilled; and coordinates ACF comments on GAO draft reports and Statements of Action on GAO's recommendations.

The Division facilitates OIG engagements relating to the management of ACF programs, to include, but not be limited to, audits to determine whether an ACF program office met its statutory requirements; audits to determine whether an ACF program office complied with internal policies and procedures; evaluations of an ACF program for efficiency and effectiveness; and evaluation of both ACF management and selected grantees' management of their grants.

III. Continuation of Policy. Except as inconsistent with this realignment, all statements of policy and interpretations with respect to organizational components affected by this notice within ACF, heretofore issued and in effect on this date of this realignment are continued in full force and effect.

IV. Delegation of Authority. All delegations and redelegations of authority made to officials and employees of affected organizational components will continue in them or their successors pending further redelegations, provided they are consistent with this realignment.

V. Funds, Personnel, and Equipment. Transfer of organizations and functions affected by this realignment shall be accompanied in each instance by direct and support funds, positions, personnel, records, equipment, supplies, and other resources.

This realignment will be effective upon date of signature.

Dated: June 12, 2015.
Mark H. Greenberg,
Acting Assistant Secretary for Children and Families.

[FR Doc. 2015-15237 Filed 6-19-15; 8:45 am]

BILLING CODE 4184-34-P